FEDERAL COMMUNICATIONS COMMISSION

[FR ID 267397]

Open Commission Meeting Wednesday, December 11, 2024

December 04, 2024.

The Federal Communications Commission will hold an Open Meeting on the subjects listed below on Wednesday, December 11, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Office of Engineering and Technology | Title: Unlicensed Use of the 6 GHz Band (ET Docket No. 18-295); Expanding Flexible Use in Mid-Band Spectrum Between 3.7 and 24 GHz (GN Docket No. 17-183).
|  | Summary: The Commission will consider a Third Report and Order that would expand unlicensed use of the 6 GHz band by very low power devices in two additional sub-bands, making a contiguous 1200 megahertz of spectrum available for use by these devices.
2 | Media | Title: Broadcast Rule Update (MB Docket No. 24-626).
|  | Summary: The Commission will consider a Notice of Proposed Rulemaking that would amend its rules for radio and television stations to reflect current application processing requirements, clarify and harmonize provisions, and remove references to outdated procedures and legacy filing systems.
3 | Wireline Competition | Title: Connect America Fund (WC Docket No. 10-90); The Uniendo a Puerto Rico Fund and the Connect USVI Fund (WC Docket No. 18-143); Rural Digital Opportunity Fund (WC Docket No. 19-126); Letters of Credit for Recipients of High-Cost Competitive Bidding Support (WC Docket No. 24-144); Connect America Fund Phase II Auction (AU Docket No. 17-182); Rural Digital Opportunity Fund Auction (AU Docket No.20-34); Establishing a 5G Fund for Rural America (GN Docket No. 20-32).
|  | Summary: The Commission will consider a Report and Order that would adopt targeted modifications to the requirements for Letters of Credit that recipients of Universal Service Fund (USF) high-cost support awarded through a competitive process must obtain.
4 | Enforcement | Title: Enforcement Order on Reconsideration (EB Docket No. 23-64).
|  | Summary: The Commission will consider an Order on Reconsideration of its March 19, 2024, Memorandum Opinion and Order in the UPM Technology, Inc. v. Unigestion Holding, S.A., d/b/a Digicel Haiti, complaint proceeding.
5 | Enforcement | Title: Enforcement Bureau Action.
|  | Summary: The Commission will consider an enforcement action.
6 | Enforcement | Title: Enforcement Bureau Action.
|  | Summary: The Commission will consider an enforcement action.
7 | Enforcement | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission
Marlene Dortch,
Secretary.

[FR Doc. 2024-29053 Filed 12-10-24; 8:45 am]

BILLING CODE 6712-01-P